DEPARTMENT OF ENERGY

Federal Energy Regulatory Commission

[Project No. 7481-068]

NYSD Limited Partnership; Notice of Availability of Environmental Assessment

April 27, 2001.

In accordance with the National Environmental Policy Act of 1969 and the Federal Energy Regulatory Commission's (Commission's) regulations, 18 CFR Part 380 (Order No. 486, 52 FR 47897), the Office of Energy Projects has prepared an Environmental Assessment (EA) for the New York State Dam Project. The EA examines the environmental impacts of four alternatives for providing downstream fish passage at the project for adult blueback herring.

In the EA, the Commission's staff has reviewed the comments on its June 14, 1996 Draft Environmental Assessment. In summary, the EA evaluates four alternatives for operation of the project's existing fish bypass for adult blueback herring: (1) licensee's alternative; (2) resource agency alternative; (3) staff alternative; and (4) no-action. The EA recommends the licensee operate its fish bypass for adult blueback herring in accordance with the staff alternative. The EA concludes that implementation of this alternative would not constitute a major federal action significantly affecting the quality of the human environment.

Copies of the EA are available for review in the Public Reference and Files Maintenance Branch, Room 2A of the Commission's offices at 888 First Street, NE., Washington, DC 20426. A copy is also available for inspection and reproduction at the addresses in item g above. This filing may also be viewed on http://www.ferc.fed.us/online/rims.htm (call (202) 208-2222 for assistance). For further information, please contact Timothy J. Welch at (202) 219-2666.

David P. Boergers,
Secretary.

[FR Doc. 01-11054 Filed 5-2-01; 8:45 am]

BILLING CODE 6717-01-M